NUCLEAR REGULATORY COMMISSION

[NRC-2012-0035]

Decommissioning of Nuclear Power Reactors

AGENCY: Nuclear Regulatory Commission.

ACTION: Regulatory guide; issuance.

SUMMARY: The U.S. Nuclear Regulatory Commission (NRC) is issuing Revision 1 of regulatory guide (RG) 1.184 “Decommissioning of Nuclear Power Reactors.” This guide describes a method NRC considers acceptable for use in decommissioning power reactors.

ADDRESSES: Please refer to Docket ID NRC-2012-0035 when contacting the NRC about the availability of information regarding this document. You may access publicly-available information related to this action by the following methods:

• Federal Rulemaking Web site: Go to http://www.regulations.gov and search for Docket ID NRC-2012-0035. Address questions about NRC dockets to Carol Gallagher; telephone: 301-287-3422; email: Carol.Gallagher@nrc.gov. For technical questions, contact the individual(s) listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. Revision 1 of RG 1.184, is available in ADAMS under Accession No. ML13144A840. The regulatory analysis may be found in ADAMS under Accession No. ML13144A842.

• NRC's PDR: You may examine and purchase copies of public documents at the NRC's PDR, Room O1-F21, One White Flint North, 11555 Rockville Pike, Rockville, Maryland 20852.

Regulatory guides are not copyrighted, and NRC approval is not required to reproduce them.

FOR FURTHER INFORMATION CONTACT: James C. Shepherd, Office of Federal and State Materials and Environmental Management Programs, telephone: 301-415-6712, email: James.Shepherd@nrc.gov, or Edward O'Donnell, Office of Nuclear Regulatory Research, telephone: 301-251-7455; email: Edward.Odonnell@nrc.gov, U.S. Nuclear Regulatory Commission, Washington, DC 20555-0001.

SUPPLEMENTARY INFORMATION:

I. Introduction

The NRC is issuing a revision to an existing guide in the NRC's “Regulatory Guide” series. This series was developed to describe and make available to the public information such as methods that are acceptable to the NRC staff for implementing specific parts of the agency's regulations, techniques that the staff uses in evaluating specific problems or postulated accidents, and data that the staff needs in its review of applications for permits and licenses.

The NRC issued Revision 1 of RG 1.184 with a temporary identification as Draft Regulatory Guide, DG-1271 in the Federal Register on February 14, 2012 (77 FR 8902), for a 60-day public comment period. The public comment period closed on April 16, 2012. Public comments on DG-1271 and the staff responses to the public comments are available in ADAMS under Accession No. ML13144A843.

Revision 1 of RG 1.184 describes a method that the NRC staff considers acceptable for use in complying with the NRC's regulations relating to the decommissioning process for nuclear power reactors. The revision takes advantage of the 13 years of decommissioning experience since the first issuance of RG 1.184 in July 2000, and decommissioning guidance documents released since then have been incorporated into the guide.

II. Congressional Review Act

This regulatory guide is a rule as defined in the Congressional Review Act (5 U.S.C. 801-808). However, the Office of Management and Budget has not found it to be a major rule as defined in the Congressional Review Act.

III. Backfitting and Issue Finality

Issuance of this final regulatory guide does not constitute backfitting as defined in 10 CFR 50.109 and is not otherwise inconsistent with the issue finality provisions in 10 CFR part 52. As discussed in the “Implementation” section of this regulatory guide, the NRC has no current intention to impose this regulatory guide on holders of current operating licenses or combined licenses.

Dated at Rockville, Maryland, this 4th day of October, 2013.
For the Nuclear Regulatory Commission.
Thomas H. Boyce,
Chief, Regulatory Guide Development Branch, Division of Engineering, Office of Nuclear Regulatory Research.

[FR Doc. 2013-25259 Filed 10-24-13; 8:45 am]

BILLING CODE 7590-01-P